DEPARTMENT OF THE INTERIOR

National Park Service

Notice of Inventory Completion: U.S. Department of the Interior, National Park Service, Lake Roosevelt National Recreation Area, Coulee Dam, WA

AGENCY: National Park Service, Interior.

ACTION: Notice.

Notice is here given in accordance with the Native American Graves Protection and Repatriation Act (NAGPRA), 25 U.S.C. 3003, of the completion of an inventory of human remains and associated funerary objects in the control of the U.S. Department of the Interior, National Park Service, Lake Roosevelt National Recreation Area, Coulee Dam, WA. The human remains and associated funerary objects were removed from six archeological sites within the boundaries of Lake Roosevelt National Recreation Area, Ferry County, WA.

This notice is published as part of the National Park Service's administrative responsibilities under NAGPRA, 25 U.S.C. 3003 (d)(3). The determinations in this notice are the sole responsibility of the superintendent, Lake Roosevelt National Recreation Area.

On April 9, 1872, land on the east side of the Columbia River in Washington Territory was set aside as the Colville Reservation by Executive Order. On July 2, 1872, that land was restored to the public domain and land on the west side of the Columbia River was set aside as the Colville Reservation. On July 1, 1892, Congress restored the north half of the Colville Reservation to the public domain ,and reduced tribal lands through allotments to individual Indians under the Dawes Act of 1887. The two constituent tribes of the Confederated Tribes of the Colville Reservation that are traditionally associated with the area are the Colville and Lakes Tribes.

Grand Coulee Dam, initiated by the Bureau of Reclamation in the 1930s, was completed in 1941. Some of the lands inundated by the resulting reservoir had been previously reserved by either the Confederated Tribes of the Colville Reservation, Washington or the Spokane Tribe of the Spokane Reservation, Washington. In 1946, a Tri-Party Agreement among the Bureau of Reclamation, the National Park Service and the Office of Indian Affairs was developed to manage the Coulee Dam Recreation Area in three zones: Reclamation Zone, Recreation Zone, and Reservation Zone. The agreement gave the National Park Service control of land in the Recreation Zone for most purposes, including the management of archeological resources. In 1990, a five-party Lake Roosevelt Cooperative Management Agreement was implemented that included the Confederated Tribes of the Colville Reservation, Washington and the Spokane Tribe of the Spokane Reservation, Washington as signatories. The National Park Service retained control of the Recreation Zone. The recreation area became Lake Roosevelt National Recreation Area in 1997.

The human remains and associated funerary objects were removed from six archeological sites on land reserved by the Confederated Tribes of the Colville Reservation, Washington until 1946. The sites were affected by the Bureau of Reclamation's operation of Grand Coulee Dam since the early 1940s, and are within the Recreation Zone managed by the National Park Service. Human remains and associated funerary objects from Lake Roosevelt National Recreation Area were included in a Bureau of Reclamation-wide NAGPRA inventory in 1995, but in 2005, the Bureau of Reclamation and the National Park Service jointly determined that Lake Roosevelt National Recreation Area has control of the NAGPRA collections and responsibility for compliance with NAGPRA.

Dr. Roderick Sprague supervised the removal of most of the human remains and associated funerary objects during legally authorized excavations between 1965 and 1985. The human remains and associated funerary objects were stored at Washington State University (WSU) until mid-1967, when they were moved to the Alfred W. Bowers Laboratory of Anthropology at the University of Idaho (UI). Some of the human remains were repatriated to the Confederated Tribes of the Colville Reservation in the late 1980s. The remaining human remains and associated funerary objects were moved to Washington State University in 1999 and 2000, and were accessioned by the National Park Service. The human remains and objects were transferred to the physical custody of the Confederated Tribes of the Colville Reservation, Washington in 2006.

A detailed assessment of the human remains and associated funerary objects was made by Lake Roosevelt National Recreation Area, Bureau of Reclamation, and Washington State University professional staff, with assistance from a Central Washington University physical anthropologist, and in consultation with representatives of Confederated Tribes of the Colville Reservation, Washington.

In an unknown year, human remains representing a minimum of one individual were removed by unknown persons from the Kettle Falls Railroad Bridge Site (45-FE-38), a historic, early contact period site in Ferry County, WA. No known individual was identified. No associated funerary objects are present.

In 1965, human remains representing a minimum of three individuals were removed from the Kettle Falls Railroad Bridge Site (45-FE-38) in Ferry County, WA. The excavations were initiated by Dr. Sprague in response to looting activity at the site. No known individuals were identified. No associated funerary objects are present.

Between 1967 and 1985, human remains representing a minimum of 26 individuals were removed from the Freeland Site (45-FE-1) in Ferry County, WA. No known individuals were identified. The 402 associated funerary objects are 1 possible quartzite knife fragment or blank, 1 iron bar, 1 piece of splintered and burnt wood, 1 copper or brass button, 1 pewter button, 2 quartzite knife fragments, 2 copper bracelets, 3 bone pendants, 3 pieces of fiber cordage, 3 gun flints, 4 olivella shells, 19 shell disk beads with fiber cordage fragments, 54 copper beads, 85 blue glass beads, and 222 dentalia shells.

The Freeland site is a Native American burial ground dating to the early historic period, based upon the nature of associated funerary objects and the condition and preservation of the skeletal elements. The Colville and Lakes Tribes were decimated by smallpox soon after 1800, and the Freeland site has been interpreted as an “epidemic burial ground.”

In 1972 and 1978, human remains representing a minimum of two individuals were removed from the Ksunku Site (45-FE-45) on the northern end of Hayes Island in Ferry County, WA. Stratigraphic evidence indicates that these remains date to approximately 2,500 years B.P. No known individuals were identified. The 34 associated funerary objects are 1 quartzite knife, 1 black argillite hammer fragment, 13 pieces of non-human bone, and 19 lithic flakes.

In 1974, human remains representing a minimum of 34 individuals were removed from the Sherman Creek Site (45-FE-51) in Ferry County, WA. Three human crania from this site were given to Lake Roosevelt National Recreation Area staff by an unidentified individual. The rest of the human remains were removed during authorized excavations by Dr. Roderick Sprague in an effort to protect them from vandalism and theft. The Sherman Creek site is a pit house village and extensive prehistoric cemetery exceeding 1,000 years in antiquity. No known individuals were identified. No associated funerary objects are present.

In 1980, human remains representing a minimum of one individual were removed by the Ferry County sheriff from the Katy Creek Site (45-FE-18), a late prehistoric site in Ferry County, WA. No known individual was identified. No associated funerary objects are present.

In an unknown span of years, human remains representing a minimum of 23 individuals were removed by park visitors and staff from the surface of the Nancy Creek Site (45-FE-16), described as “an aboriginal camp, burial, and historic site,” in Ferry County, WA. No known individuals were identified. No associated funerary objects are present.

In 1985, human remains representing a minimum of three individuals were removed from the Nancy Creek Site (45-FE-16), in Ferry County, WA. No known individuals were identified. No associated funerary objects are present.

On the basis of the geographical location of the sites within the Plateau Culture Area, documented burial practices, osteological evidence as described by archeologists and physical anthropologists, and the nature of prehistoric and historic artifacts and archeological sites, the human remains described above are Native American. Archeological analysis of the sites, anthropological research, ethnohistorical studies, and tribal oral traditions demonstrate by a preponderance of the evidence that the Native American human remains and associated funerary objects represent Plateau Culture Area, Interior Salish speakers who have continuously occupied the Columbia River drainage for thousands of years. The six sites are within the judicially established aboriginal territory of the Confederated Tribes of the Colville Reservation, Washington. Members of the nearby Spokane Tribe of the Spokane Reservation, Washington are also Interior Salish speakers, but their aboriginal territory is to the east, along the Spokane River and its tributaries.

Officials of Lake Roosevelt National Recreation Area have determined that, pursuant to 25 U.S.C. 3001 (9-10), the human remains described above represent the physical remains of 93 individuals of Native American ancestry. Officials of Lake Roosevelt National Recreation Area also have determined that, pursuant to 25 U.S.C. 3001 (3)(A), the 436 objects described above are reasonably believed to have been placed with or near individual human remains at the time of death or later as part of the death rite or ceremony. Lastly, officials of Lake Roosevelt National Recreation Area have determined that, pursuant to 25 U.S.C. 3001 (2), there is a relationship of shared group identity that can be reasonably traced between the Native American human remains and associated funerary objects and the Confederated Tribes of the Colville Reservation, Washington.

Representatives of any other Indian tribe that believes itself to be culturally affiliated with the human remains and associated funerary objects should contact Deborah Bird, superintendent, Lake Roosevelt National Recreation Area, 1008 Crest Drive, Coulee Dam, WA 99116-0037, telephone (509) 633-9441, before October 3, 2008. Repatriation of the human remains and associated funerary objects to the Confederated Tribes of the Colville Reservation, Washington may proceed after that date if no additional claimants come forward.

Lake Roosevelt National Recreation Area is responsible for notifying the Confederated Tribes of the Colville Reservation, Washington that this notice has been published.

Dated: August 11, 2008
Sherry Hutt,
Manager, National NAGPRA Program.

[FR Doc. E8-20402 Filed 9-2-08; 8:45 am]

BILLING CODE 4312-50-S